CORPORATION FOR NATIONAL AND COMMUNITY SERVICE

Proposed Information Collection; Comment Request

AGENCY: Corporation for National and Community Service.

ACTION: Notice.

SUMMARY: The Corporation for National and Community Service (hereinafter “Corporation”), as part of its continuing effort to reduce paperwork and respondent burden, conducts a preclearance consultation program to provide the general public and Federal agencies with an opportunity to comment on proposed and/or continuing collections of information in accordance with the Paperwork Reduction Act of 1995 (PRA95)(44 U.S.C. 3506(c)(2)(A)). This program helps to ensure that requested data can be provided in the desired format, reporting burden (time and financial resources) is minimized, collection instruments are clearly understood, and the impact of collection requirement on respondents can be properly assessed.

Currently, the Corporation is soliciting comments concerning the proposed revision of its Forbearance Request Form (OMB #3045-0030) and Interest Accrual Form (OMB #3045-0053).

Copies of the forms can be obtained by contacting the office listed below in the address section of this notice.

DATES: Written comments must be submitted to the office listed in the ADDRESSES section by January 14, 2002.

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

ADDRESSES: Send comments to Corporation for National and Community Service, National Service Trust, Mr. Bruce Kellogg, 1201 New York Ave., NW., Washington, DC, 20525.

FOR FURTHER INFORMATION CONTACT: Bruce Kellogg, (202) 606-5000, ext. 526.

SUPPLEMENTARY INFORMATION:

Background

After completing a period of national service in an AmeriCorps project, an AmeriCorps member receives an “education award” that can be used to make a payment towards a student loan or pay for post-secondary educational expenses. This award is an amount of money set aside in the member's “account” in the National Service Trust Fund. Members have seven years in which to draw against any unused balance.

By law, during the period of time the AmeriCorps members are participating in national service, they are eligible for a postponement (a forbearance) on the repayment of any qualified student loan they have. The purpose of the postponement is to temporarily suspend their obligation to make loan payments while they are earning a minimal living allowance in their national service position. Interest continues to accrue during this period, but payments are not required.

Also, the Corporation's enabling legislation requires that it pay, on behalf of AmeriCorps members, all or a portion of the interest that accrues during their service period, if their loans were in forbearance during their service and if they successfully complete their terms of service. For an AmeriCorps member who serves in a full-time term (which includes serving a minimum of 1700 hours) for a year or less, the Corporation will pay all of the interest that accrued. For a person who serves in anything less than a full-time term, the percentage of accrued interest the Corporation pays is determined by a formula included in the Trust's regulations. The legislative intent for paying the interest is to keep the AmeriCorps members' qualified student loan debts from increasing during their service period.

Current Action

Two forms with two separate sets of circumstances are being addressed by this Federal Register notice. Each form will be individually discussed below.

A. Forbearance Request for National Service Form—Renewal (OMB #3045-0030)

Currently, AmeriCorps members use an OMB-approved form entitled Forbearance Request for National Service to obtain certification that they are in an approved national service position. The form also serves as the borrower's official request to the loan companies for forbearance. Since forbearance is granted by the loan holder and not the Corporation, the form requests of the loan holder that a forbearance be approved for the national service. The Corporation's role is to verify that the borrower is an AmeriCorps member and is eligible for this mandatory forbearance on qualified student loans. An AmeriCorps member completes one part of the form and sends it to the office of the National Service Trust. The Trust provides written verification that the borrower is in an approved national service position, then forwards the form to the loan holder at the address provided by the AmeriCorps member. The loan holder will act upon the request.

This form has been adopted by many of the larger loan holders (e.g., Sallie Mae) and is given to their borrowers with the loan holders' own logos at the top of the form. Indeed, the form was originally developed with the assistance of Sallie Mae and representatives of several student loan associations. Having a separate form for forbearance based on AmeriCorps service clearly distinguishes it from forbearance requests based on one of the other conditions for which a borrower may be eligible (e.g., military service, employment in certain low income areas, student status).

Several other loan holders have chosen to modify their own existing forbearance request forms by including an additional option—“AmeriCorps service” or “national service” —to the choices already available. The Corporation verifies national service participation using all types of forms presented to it, on a loan holder's unique form as well as the OMB approved form.

The form needs some minor revisions to clarify certain sections and to facilitate processing of the information. First, to delete an extra box for the SSN; then, to reduce the amount of text in bold type, add a statement of purpose to the member's section, identify the service dates as mandatory, limit the form to a single loan holder each, and add the National Service Trust's toll-free number.

The Corporation seeks to continue using this particular form, albeit in a revised version. This is a voluntary form. It is one way to provide verification to a loan holder that one of its borrowers is eligible for the mandatory forbearance, at the same time allowing the borrower to request the forbearance from the loan company. The Corporation will continue its policy of verifying AmeriCorps participation on any form the loan holder wishes to use. The current form is due to expire March 31, 2002.

Type of Review: Renewal.

Agency: Corporation for National and Community Service.

Title: Forbearance Request for National Service.

OMB Number: 3045-0030.

Agency Number: None.

Affected Public: AmeriCorps participants and the holders of their qualified student loans.

Total Respondents: 6,500 annually.

Frequency: Average of once per year per loan.

Average Time Per Response: One minute for the AmeriCorps member to complete the form.

Estimated Total Burden Hours: 108 hours.

Total Burden Cost (capital/startup): None.

Total Burden Cost (operating/maintenance): None.

B. Interest Accrual—Renewal (OMB #3045-0053)

The Corporation pays all or a portion of the interest that accrues during a period of national service for those who successfully complete their service and have had their loans in forbearance during the service. Using the current form, AmeriCorps members complete the top section and indicate their dates of service. Then they mail the form to the loan holder who indicates the total amount of interest that accrued during the service period, or indicates a daily accrual rate. The loan holder also adds the address where the payment should be sent and returns the form to the National Service Trust. When the Corporation receives this information, it is reviewed for accuracy and is either paid or returned to the loan holder or lender for additional information.

The revisions address the most common causes for delays in processing interest payments. The changes modify the title for consistency, reduce the number of days prior to completion of service for submitting the form, delete an extra box for the SSN, more clearly identify the member's address information, identify the service dates as essential, request loan type information and if more than one loan is cited loan numbers, more clearly identify the space for grace period information, request the lender's address be complete and legible, add to the lender's certification a statement that the loans cited are in forbearance, and add a space for the lender's fax number. The current form is due to expire March 31, 2002.

Type of Review: Renewal.

Agency: Corporation for National and Community Service.

Title: Interest Accrual Form.

OMB Number: 30045-0053.

Agency Number: None.

Affected Public: AmeriCorps members and the holders of their qualified student loans.

Total Respondents: 6,500 annually.

Frequency: Average of once per year per loan.

Average Time Per Response: Three (3) minutes, total (one minute for the AmeriCorps member to complete the form, and two (2) minutes for the loan holder).

Estimated Total Burden Hours: 325 hours.

Total Burden Cost (capital/startup): None.

Total Burden Cost (operating/maintenance): None.

Comments submitted in response to this notice will be summarized and/or included in the request for Office of Management and Budget approval of the information collection request; they will also become a matter of public record.

Dated: November 6, 2001.
Charlene R. Dunn,
Director, National Service Trust.

[FR Doc. 01-28425 Filed 11-13-01; 8:45 am]

BILLING CODE 6050-$$-P